DEPARTMENT OF THE INTERIOR

Bureau of Land Management

(WY-060—1320-EL, WYW141435)

Availability of a Final Environmental Impact Statement on the Horse Creek Federal Coal Lease Application in the Wyoming Powder River Basin

AGENCY: Bureau of Land Management, Interior.

ACTION: Notice of Availability of a Final Environmental Impact Statement on the Horse Creek Federal coal lease application in the decertified Powder River Federal Coal Production Region, Wyoming.

SUMMARY: Pursuant to the National Environmental Policy Act (NEPA) and implementing regulations, and other applicable statutes, the Bureau of Land Management (BLM) announces the availability of the Final Environmental Impact Statement (FEIS) for the Horse Creek Federal coal lease application in the Wyoming Powder River Basin pursuant to 43 CFR 3425.3. This Federal coal lease application has been assigned case file number WYW141435. The FEIS analyzes the impacts of issuing a Federal coal lease for the proposed Horse Creek Federal coal tract. The Horse Creek tract is being considered for sale as a result of a coal lease application received from the Antelope Coal Company (ACC) on February 14, 1997. The tract includes approximately 2,838 acres containing approximately 356.5 million tons of geologically in-place Federal coal reserves in Campbell and Converse Counties, Wyoming. It was applied for as a maintenance tract for ACC's adjacent Antelope Mine, located in northern Converse County, Wyoming. ACC is a subsidiary of Kennecott Energy Company.

DATES: A 30-day availability period for the FEIS will start on the date that the Environmental Protection Agency publishes a notice of availability of the FEIS in the Federal Register. Following the 30-day availability period, a Record of Decision will be prepared and distributed.

ADDRESSES: Please address questions, comments, or requests for copies of the FEIS to the Casper District Office, Bureau of Land Management, Attn: Nancy Doelger, 2987 Prospector Drive, Casper, Wyoming 82604. Fax them to (307) 261-7587 or e-mail them to casper_wymail@blm.gov (Attn: Nancy Doelger).

FOR FURTHER INFORMATION CONTACT: Nancy Doelger or Mike Karbs at the above address or phone: 307-261-7600.

SUPPLEMENTARY INFORMATION: The application for the Horse Creek Federal coal tract was filed as a maintenance tract lease-by-application (LBA) under the provisions of 43 Code of Federal Regulations (CFR) 3425.1.

On February 14, 1997, ACC filed coal lease application WYW141435 for the Horse Creek Federal coal tract with the BLM. On May 1, 1998, ACC modified the Horse Creek application. The modified Horse Creek Federal coal tract includes the following lands:

T. 41 N., R. 71 W., 6th PM Wyoming

Sec. 14, lots 5 thru 7, and 10 thru 15;

Sec. 15, lots 6 thru 11, and 14 thru 16;

Sec. 22, lots 1, 3 thru 6, and 9 thru 13;

Sec. 23, lots 2 thru 7, and 10 thru 16;

Sec. 25, lots 11 and 12 (S ½);

Sec. 26, lots 1 thru 8, 12, and 13;

Sec. 27, lots 1 thru 3, 5, 12 thru 14, and 16;

Sec. 34, lots 1, 7, 8 thru 10, and 16;

Sec. 35, lots 8 thru 10.

The area described contains 2,837.91 acres more or less with an estimated 356.5 million tons of geologically in-place coal.

The Antelope Mine, which is adjacent to the lease application area, has an approved mining and reclamation plan from the Land Quality Division of the Wyoming Department of Environmental Quality and an approved air quality permit from the Air Quality Division of the Wyoming Department of Environmental Quality to mine up to 30 million tons of coal per year. According to the application filed for the Horse Creek Federal coal tract, the maintenance tract would be mined to extend the life of the existing mine.

The Powder River Regional Coal Team (RCT) reviewed the Horse Creek Federal coal lease application at their meeting on April 23, 1997, in Casper, Wyoming, and recommended that it be processed. The RCT was notified in writing of the modified tract configuration.

A public hearing was held at 7:00 p.m. on Wednesday, December 8, 1999, at the Holiday Inn, 2009 S. Douglas Highway, Gillette, Wyoming. The purpose of the hearing was to receive comments on the FEIS, on the fair market value, the maximum economic recovery, and the proposed competitive sale of the coal included in the proposed Horse Creek Federal coal tract. Comments on the DEIS were accepted for 60 days following November 12, 1999, the date that the Environmental Protection Agency (EPA) published their notice of availability of the FEIS in the Federal Register. The comment period for the Draft Environmental Impact Statement (DEIS) ended on January 12, 2000. Nine comments were received on the DEIS and these are included with responses in the FEIS.

The FEIS analyzes three alternatives. The Proposed Action is to hold a competitive sealed-bid sale and issue a lease for the tract as applied for to the successful qualified bidder, if the bid meets or exceeds the fair market value of the tract as determined by the BLM. This is the preferred alternative of the BLM. The second alternative, Alternative 1, is the No Action Alternative which assumes that the tract will not be leased. The third alternative, Alternative 2, is to hold a competitive sealed-bid sale and issue a lease for the tract as modified by BLM to the successful qualified bidder, if the bid meets or exceeds the fair market value of the tract as determined by the BLM.

The Office of Surface Mining Reclamation and Enforcement is a cooperating agency in the preparation of the EIS because it is the Federal agency that would review the mining plans for the tract if it is leased, and recommend approval or disapproval of the mining plans to the Secretary of the Interior.

The lease application area is within the boundaries of the Thunder Basin National Grasslands. Some of the surface lands in the area were formerly under the jurisdiction of the United States and were administered by the U.S. Forest Service (USFS) as part of the Thunder Basin National Grasslands. As a result of recent land exchanges between the USFS and local landowners, however, there are no longer any surface lands within the lease application area that are under the jurisdiction of the USFS, and as a result, the USFS is not a cooperating agency in the preparation of this EIS.

Issues of concern that were identified related to this lease application include the potential impacts to wetlands, aquifers, agricultural producers, wildlife, wildlife habitat, wildlife-based recreation, cultural resources, public land access, and regional visibility that may occur if a lease is issued for this tract, and the potential for conflict with development of existing oil and gas leases in this area including coal bed methane. There are no producing oil or gas wells on the lease application area.

Comments received on the FEIS during the 30-day availability period, including names and street addresses of respondents, will be available for public review at the Bureau of Land Management, Casper Field Office, 2987 Prospector Drive, Casper, Wyoming, during regular business hours (8 a.m. to 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives of officials of organizations or businesses, will be made available for public inspection in their entirety.

Dated: May 5, 2000.
Alan R. Pierson,
State Director.

[FR Doc. 00-11797 Filed 5-10-00; 8:45 am]

BILLING CODE 4310-22-P